DEPARTMENT OF JUSTICE

Immigration and Naturalization Service

Agency Information Collection Activities: Proposed Collection; Comments Requested

ACTION: 30-day notice of information collection under review: Medical Certification for Disability Exception.

The Department of Justice (DOJ), Immigration and Naturalization Service has submitted the following information collection request to the Office of Management and Budget (OMB) for review and approval in accordance with the Paperwork Reduction Act of 1995. The proposed information collection is published to obtain comments from the public and affected agencies. This proposed information collection was previously published in the Federal Register (Volume 66, Number 176, page 47240) on September 11, 2001, allowing for a 60-day comment period.

The purpose of this notice is to allow for an additional 30 days for public comment until February 13, 2002. This process is conducted in accordance with 5 CFR 1320.10. Written comments and/or suggestions regarding the items contained in this notice, especially the estimated public burden and associated response time, should be directed to the Office of Management and Budget, Office of Information and Regulatory Affairs, Attention: Department of Justice Desk Officer, 725—17th Street, NW., Suite 10102, Washington, DC 20503. Additionally, comments may be submitted to OMB via facsimile to (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a currently approved collection.

(2) Title of the Form/Collection: Medical Certification for Disability Exceptions.

(3) Agency form number, if any, and the applicable component of the Department of Justice sponsoring the collection: Form Number: N-648, Immigration and Naturalization Service, Department of Justice.

(4) Affected public who will be asked or required to respond, as well as a brief abstract. Affected Public: Individuals or households. The Immigration and Naturalization Service uses the Form N-648 medical certification issued by the licensed medical professional to substantiate a claim for an exception to the requirements of section 312(a) of the Act.

(5) An estimate of the total number of respondents and the amount of time estimated for an average respondent to respond: There are 20,000 respondents. The amount of estimated time required for the average respondent to respond is 2 hours.

(6) An estimate of the total public burden (in hours) associated with the collection: 40,000 hours annually.

If you have additional comments, suggestions, or need a copy of the proposed information collection instrument with instructions, or additional information, please contact Richard A. Sloan, Director, Policy Directives and Instructions Branch, Immigration and Naturalization Service, U.S. Department of Justice, 425 I Street, NW., Room 4034, Washington, DC 20536; (202) 514-3291. Comments and suggestions regarding items contained in this notice, especially regarding the estimated public burden and associated response time may also be directed to Richard A. Sloan.

If additional information is required contact: Robert Briggs, Department Clearance Officer, Information Management and Security Staff, Justice Management Division, United States Department of Justice, 601 D Street NW., Patrick Henry Building, Suite 1600, NW., Washington, DC 20530.

Dated: January 8, 2002.
Richard A. Sloan,
Department Clearance Officer, United States Department of Justice, Immigration and Naturalization Service.

[FR Doc. 02-892 Filed 1-11-02; 8:45 am]

BILLING CODE 4410-10-M